FEDERAL DEPOSIT INSURANCE CORPORATION

12 CFR Part 360

Processing of Deposit Accounts in the Event of an Insured Depository Institution Failure and Large-Bank Deposit Insurance Determination Modernization; Limited Opportunity To Resubmit Comment

AGENCY: Federal Deposit Insurance Corporation (FDIC).

ACTION: Notice of limited opportunity to resubmit comment.

SUMMARY: The FDIC invites the commenter who filed a public comment at http://www.regulations.gov on April 14, 2008, relating to the FDIC's Notice of Proposed Rulemaking involving “Processing of Deposit Accounts in the Event of an Insured Depository Institution Failure and Large-Bank Deposit Insurance Determination Modernization” to resubmit to the FDIC his or her comment relating to this action. We are taking this action because due to a technical software error, a public comment submitted via http://www.regulations.gov was not transmitted to the FDIC. Therefore, the FDIC will provide this commenter with a limited opportunity to resubmit his or her comment to the FDIC on or before November 24, 2008.

DATES: The commenter whose comment was not transmitted to the FDIC in accordance with the situation described above may resubmit his or her comment on or before November 24, 2008.

ADDRESSES: The affected commenter may submit his or her comment by any of the following methods:

• Federal eRulemaking Portal: http://www.regulations.gov. Follow the instructions for submitting comments.

• Agency Web Site: http://www.FDIC.gov/regulations/laws/federal. Follow instructions for submitting comments on the FDIC's Web Site.

• E-mail: Comments@FDIC.gov. Include “Resubmitted Comments” in the subject line of the message.

• Mail: Robert E. Feldman, Executive Secretary, Attention: Comments, Federal Deposit Insurance Corporation, 550 17th Street, NW., Washington, DC 20429

• Hand Delivery/Courier: Guard Station at the rear of the 550 17th Street Building (located on F Street) on business days between 7 a.m. and 5 p.m. (EST).

• Public Inspection: All comments received will be posted without change to http://www.fdic.gov/regulations/laws/federal/ including any personal information provided. Paper copies of public comments may be ordered from the Public Information Center by telephone at (877) 275-3342 or (703) 562-2200.

FOR FURTHER INFORMATION CONTACT: A. Ann Johnson, Counsel, Legal Division, (202) 898-3573 or aajohnson@fdic.gov.

SUPPLEMENTARY INFORMATION: In January 2003, the interagency eRulemaking Program launched http://www.regulations.gov to provide citizens with an online portal to learn about proposed regulations and to submit their comments on the rulemaking process. For the first time, American citizens could access and comment on all proposed Federal regulations from a single Web site.

A software problem at http://www.regulations.gov resulted in the non-transmittal of public comments to some federal agencies from March 22, 2008 through September 8, 2008. The software error affected only a few federal agencies, one of which was the FDIC. The FDIC has been assured that the software problem has been corrected and that safeguards are now in place to ensure this error will not occur for future rulemakings.¹

¹ Questions about the Federal eRulemaking Portal may be directed to John Moses, Chief, eRulemaking Program Branch, Environmental Protection Agency, 1200 Pennsylvania Ave., NW., Washington, DC 20460, (202) 566-1352, Moses.John@epamail.epa.gov.

Specifically, because of the software problem, the FDIC has been notified that a total of two public comments relevant to FDIC rulemakings were filed using the Federal eRulemaking Portal at http://www.regulations.gov, but were not submitted to the FDIC.² The FDIC was advised that one of the missing comments was filed on April 14, 2008. This comment related to the FDIC's Notice of Proposed Rulemaking involving “Processing of Deposit Accounts in the Event of an Insured Depository Institution Failure and Large-Bank Deposit Insurance Determination Modernization.” ³ The Federal eRulemaking Portal at http://www.regulations.gov has been unable to retrieve this comment or identify the commenter.

² The other missing comment was filed on July 9, 2008. This missing comment related to the FDIC's Interim Final Rule and Request for Comment involving “Financial Education Programs That Include the Provision of Bank Products and Services.” 73 FR 35337 (June 23, 2008). The FDIC subsequently finalized this interim final rule. 73 FR 55431 (Sept. 25, 2008). The commenter whose comment was not received by the FDIC and which is related to that rulemaking is invited to submit his or her comment to the FDIC through procedures outlined in a second Notice of Limited Opportunity to Resubmit Comment published by the FDIC in the Federal Register on October 24, 2008.

³ See Notice of Proposed Rulemaking involving “Processing of Deposit Accounts in the Event of an Insured Depository Institution Failure and Large-Bank Deposit Insurance Determination Modernization.” 73 FR 2364 (Jan. 14, 2008). The FDIC subsequently bifurcated the proposed rule, and published an Interim Rule with Request for Comments relating to the “Processing of Deposit Accounts in the Event of an Insured Depository Institution Failure” (73 FR 41170 (July 17, 2008)) and a Final Rule relating to “Large-Bank Deposit Insurance Determination Modernization” (73 FR 41180 (July 17, 2008)).

The FDIC considered all public comments relating to the proposed rule and posted the comments for public review on its Web site at http://www.fdic.gov/regulations/laws/federal/. In large measure, the proposed rule has been finalized. To ensure fairness in its rulemaking process, however, the FDIC invites the commenter to resubmit his or her comment if they (1) Commented about either of this proposed rule on the date indicated, (2) used the Federal eRulemaking Portal to file their original comments, and (3) do not believe that their comment was received by the FDIC. If a commenter is unsure whether his or her comment was received by the FDIC, the commenter may verify receipt of the comment by checking the FDIC's Web site for the comment at http://www.fdic.gov/regulations/laws/federal/ or by contacting the FDIC's Public Information Center using the contact information indicated above.

Dated the 20th of October 2008.
Federal Deposit Insurance Corporation.
Robert E. Feldman,
Executive Secretary.

[FR Doc. E8-25376 Filed 10-23-08; 8:45 am]

BILLING CODE 6714-01-P